DEPARTMENT OF THE INTERIOR

Fish and Wildlife Service

50 CFR Part 17

[Docket No. FWS-R4-ES-2012-0103; 4500030114]

RIN 1018-AY71

Endangered and Threatened Wildlife and Plants; Designation of Critical Habitat for the Northwest Atlantic Ocean Distinct Population Segment of the Loggerhead Sea Turtle; Correction

AGENCY: Fish and Wildlife Service, Interior.

ACTION: Final rule; technical amendment.

SUMMARY: We, the U.S. Fish and Wildlife Service, published a final rule in the Federal Register on July 10, 2014, that designated specific areas in the terrestrial environment of the U.S. Atlantic and Gulf of Mexico coasts as critical habitat for the Northwest Atlantic Ocean distinct population segment of the loggerhead sea turtle under the Endangered Species Act of 1973, as amended. On July 23, 2014, we published another final rule that set forth additions, removal, updates, and corrections to the List of Endangered and Threatened Wildlife for marine and anadromous taxa, including the loggerhead sea turtle. Neither the July 10, 2014, final rule nor the July 23, 2014, final rule presented a complete and accurate entry for the loggerhead sea turtle in the List of Endangered and Threatened Wildlife; the complete and accurate entry is a combination of the two, as well as an additional citation. With this document, we correct the entry for the loggerhead sea turtle in the List of Endangered and Threatened Wildlife.

DATES: Effective August 28, 2014.

FOR FURTHER INFORMATION CONTACT: Anissa Craghead, (703) 358-2445.

SUPPLEMENTARY INFORMATION: We, the U.S. Fish and Wildlife Service, share authority with the National Marine Fisheries Service (NMFS) to protect certain marine and anadromous species, including sea turtles. Endangered and threatened animal species are listed in the Code of Federal Regulations in title 50 at part 17 (50 CFR 17.11(h)) in the List of Endangered and Threatened Wildlife (List).

We published a final rule in the Federal Register on July 10, 2014 (79 FR 39756), that designated specific areas in the terrestrial environment of the U.S. Atlantic and Gulf of Mexico coasts as critical habitat for the Northwest Atlantic Ocean distinct population segment (DPS) of the loggerhead sea turtle (Caretta caretta). That final rule became effective on August 11, 2014.

On July 23, 2014, we published a final rule (79 FR 42687) that set forth additions, removal, updates, and corrections to the List for marine and anadromous taxa, including the loggerhead sea turtle, based on rules previously issued by NMFS. That rule was effective upon publication on July 23, 2014.

The July 10 and July 23 rules were developed simultaneously for different purposes, and both rules amended the entry on the List for the Northwest Atlantic Ocean DPS of the loggerhead sea turtle for different reasons.

The entry in the List for the Northwest Atlantic DPS of the loggerhead sea turtle in the July 10, 2014, final rule did not incorporate the uniform language adopted in the July 23, 2014, final rule for all DPSs of loggerhead sea turtle for the following columns: (1) Common name, and (2) Vertebrate population where endangered or threatened. The July 10, 2014, final rule also did not list the applicable citations for NMFS protective regulations in the “Special rules” column of the List for the DPS. Lastly, it did not cite NMFS' designation of critical habitat in the marine environment for the DPS.

The entry in the List for the Northwest Atlantic DPS of loggerhead sea turtle in the July 23, 2014, final rule to adopt the NMFS changes did not incorporate the applicable citations in the “Critical habitat” column for the DPS.

We regret the errors presented in the differing List entries for this species and any confusion they have caused. In order to set forth a complete and accurate entry in the List for the Northwest Atlantic DPS of the loggerhead sea turtle, we are publishing this correction. In this document, we are also correcting the heading (title) of our (terrestrial environment) critical habitat entry for the Northwest Atlantic DPS of the loggerhead sea turtle so that it includes “DPS” in order to match the information in the DPS's entry in the List. This document does not increase, decrease, or otherwise revise in any way the threatened species status or critical habitat designation for the Northwest Atlantic DPS of the loggerhead sea turtle.

List of Subjects in 50 CFR Part 17

Endangered and threatened species, Exports, Imports, Reporting and recordkeeping requirements, Transportation.

Regulation Promulgation

Accordingly, we amend part 17, subchapter B of chapter I, title 50 of the Code of Federal Regulations, as follows:

PART 17—[AMENDED]

1. The authority citation for part 17 continues to read as follows:

Authority: 16 U.S.C. 1361-1407; 16 U.S.C. 1531-1544; 16 U.S.C. 4201-4245, unless otherwise noted.

2. Amend § 17.11(h) by revising the entry for “Sea turtle, loggerhead, Northwest Atlantic Ocean” in the List of Endangered and Threatened Wildlife under REPTILES to read as follows:

§ 17.11 Endangered and threatened wildlife.

* * * * *

(h) * * *

Species: Common name | Species: Scientific name | Historical range | Vertebrate population where endangered or threatened | Status | When listed | Critical habitat | Special rules
* * * * * * *
REPTILES
* * * * * * *
Sea turtle, loggerhead (Northwest Atlantic Ocean DPS) | Caretta caretta | Northwest Atlantic Ocean Basin | Loggerhead sea turtles originating from the Northwest Atlantic Ocean north of the equator, south of 60° N. Lat., and west of 40° W. Long. | T | 794 | 17.95(c), 226.223 | 223.205, 223.206, 223.207
* * * * * * *

* * * * *

§ 17.95 [Amended]

3. Amend § 17.95(c), in the heading of the entry for “Loggerhead Sea Turtle, Northwest Atlantic Ocean (Caretta caretta),” by adding the word “DPS” immediately following the word “Ocean”.

Dated: August 22, 2014.
Tina A. Campbell,
Chief, Division of Policy and Directives Management, U.S. Fish and Wildlife Service.

[FR Doc. 2014-20463 Filed 8-27-14; 8:45 am]

BILLING CODE 4310-55-P